DEPARTMENT OF COMMERCE

National Oceanic and Atmospheric Administration

RIN 0648-XE722

South Atlantic Fishery Management Council; Public Meetings

AGENCY: National Marine Fisheries Service (NMFS), National Oceanic and Atmospheric Administration (NOAA), Commerce.

ACTION: Notice of a joint meeting of the Law Enforcement Advisory Panel and Law Enforcement Committee.

SUMMARY: The South Atlantic Fishery Management Council's (Council) Law Enforcement Advisory Panel and Law Enforcement Committee will meet jointly to address issues pertaining to enforcement of fisheries regulations in the South Atlantic Region.

DATES: The joint meeting will take place on August 4-5, 2016. The meeting will begin at 1:30 p.m. on August 4 and conclude at 3 p.m. on August 5. The joint meeting will be broadcast via webinar. Registration information will be posted on the SAFMC Web site at www.safmc.net as it becomes available.

ADDRESSES: The joint meeting will be held at the Crowne Plaza hotel; 4831 Tanger Outlet Boulevard, North Charleston, SC 29418; phone: (843) 744-4422; fax: (843) 744-4472.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The Council's Law Enforcement Advisory Panel and Law Enforcement Committee will meet jointly to address several items including proper stowage of spearfishing gear for vessels transiting through closed areas, enhancing compliance with future reporting requirements for for-hire vessels, utility of Operator Cards, enforcement of newly implemented regulations regarding transport of fillets from The Bahamas, Joint Enforcement Agreement (JEA) activities, and inclusion of Council's managed areas (i.e., Marine Protected Areas, Spawning Special Management Zones) in navigation charts. Meeting participants will also receive a presentation on a marine managed areas mapping project.

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 6, 2016.
Tracey L. Thompson,
Acting Deputy Director, Office of Sustainable Fisheries, National Marine Fisheries Service.

[FR Doc. 2016-16356 Filed 7-8-16; 8:45 am]

BILLING CODE 3510-22-P